OFFICE OF MANAGEMENT AND BUDGET

Draft Report to Congress on the Benefits and Costs of Federal Regulations and Agency Compliance With the Unfunded Mandates Reform Act

AGENCY: Office of Management and Budget, Executive Office of the President.

ACTION: Notice of availability and request for comments.

SUMMARY: The Office of Management and Budget (OMB) requests comments on its Draft Report to Congress on the Benefits and Costs of Federal Regulations and Agency Compliance with the Unfunded Mandates Reform Act, available at www.whitehouse.gov/omb/information-regulatory-affairs/reports. The Draft Report is divided into two parts, the first of which is further divided into several chapters. Part I, chapter I examines the benefits and costs of major Federal regulations issued in fiscal year 2023. Part I, chapter II discusses regulatory impacts on State, local, and Tribal governments, small business, wages and employment, and economic growth. Part I, chapter III offers recommendations for regulatory reform. Part II summarizes agency compliance with the Unfunded Mandates Reform Act. OMB requests that comments be submitted electronically to OMB by December 9, 2024, through www.regulations.gov using Docket ID OMB-2024-0012.

DATES: To ensure consideration of comments as OMB prepares this Draft Report for submission to Congress, comments must be in writing and received by December 9, 2024.

ADDRESSES: Submit comments by one of the following methods:

• www.regulations.gov: Direct comments to Docket ID OMB-2024-0012.

• Fax: (202) 395-7285.

• Mail: Office of Information and Regulatory Affairs, Office of Management and Budget, New Executive Office Building, 9th Floor, 725 17th Street NW, Washington, DC 20503. To ensure that your comments are received timely, we recommend that comments on this draft report be electronically submitted.

Privacy Act Statement: OMB is issuing this draft report pursuant to its authorities under the Regulatory Right to Know Act, Public Law 106-554, title IV, sec. 624. Your submission of comments is voluntary. OMB will use your feedback to inform sound decision making regarding this report. Please note that submissions received in response to this notice may be posted in the Federal eRulemaking Portal at www.regulations.gov or otherwise released in their entirety, including any personal and business confidential information provided. Do not include in your submissions any information of a confidential nature, such as personal or proprietary information, or any information you would not like to be made publicly available. The OMB System of Records Notice, OMB Public Input System of Records, OMB/INPUT/01, at 88 FR 20913 (www.federalregister.gov/documents/2023/04/07/2023-07452/privacy-act-of-1974-system-of-records) includes a list of routine uses associated with the collection of this information.

For general inquiries email: MBX.OMB.OIRA.BC_Report_Questions@omb.eop.gov.

SUPPLEMENTARY INFORMATION: Congress directed the Office of Management and Budget to prepare an annual Report to Congress on the Benefits and Costs of Federal Regulations. Specifically, section 624 of title IV of the FY 2001 Treasury and General Government Appropriations Act, also known as the “Regulatory Right-to-Know Act” (the Act), requires OMB to submit a report on the benefits and costs of Federal regulations together with recommendations for reform. The Act states that the report should contain estimates of the costs and benefits of regulations in the aggregate, by agency and agency program, and by major rule, as well as an analysis of impacts of Federal regulation on State, local, and Tribal governments, small businesses, wages, and economic growth. The Act also states that the report should be subject to notice and comment and peer review. OIRA requests public comments on the report in general, including its substance and format; how to improve transparency and accountability with respect to the effects of regulation; and the various recommendations for reform.

Richard Revesz,
Administrator, Office of Information and Regulatory Affairs.

[FR Doc. 2024-25859 Filed 11-6-24; 8:45 am]

BILLING CODE P